DEPARTMENT OF TRANSPORTATION

Federal Aviation Administration

14 CFR Part 39

[Docket No. FAA-2004-19959; Directorate Identifier 2004-CE-46-AD; Amendment 39-14101; AD 2005-10-23]

RIN 2120-AA64

Airworthiness Directives; DG Flugzeugbau GmbH Model DG-500MB Sailplanes and Glaser-Dirks Flugzeugbau GmbH Model DG-800B Sailplanes

AGENCY: Federal Aviation Administration (FAA), DOT.

ACTION: Final rule.

SUMMARY: The FAA adopts a new airworthiness directive (AD) for all DG Flugzeugbau GmbH Model DG-500MB sailplanes equipped with a Solo engine and Glaser-Dirks Flugzeugbau GmbH Model DG-800B sailplanes equipped with a Solo engine. This AD requires you to inspect the propeller for damage, specifically foam core separation, and replace any damaged propeller. This AD results from mandatory continuing airworthiness information (MCAI) issued by the airworthiness authority for Germany. We are issuing this AD to detect and correct damage to the propeller, which could result in failure of the propeller to perform properly. This failure could lead to reduced or loss of control of the sailplane.

DATES: This AD becomes effective on June 30, 2005.

As of June 30, 2005, the Director of the Federal Register approved the incorporation by reference of certain publications listed in the regulation.

ADDRESSES: To get the service information identified in this AD, contact DG Flugzeugbau, Postbox 41 20, 76625 Bruchsal, Germany; telephone, 49 7257 890; fax, 49 7257 8922.

To view the AD docket, go to the Docket Management Facility; U.S. Department of Transportation, 400 Seventh Street, SW., Nassif Building, Room PL-401, Washington, DC 20590-001 or on the Internet at http://dms.dot.gov. The docket number is FAA-2004-19959; Directorate Identifier 2004-CE-46-AD.

FOR FURTHER INFORMATION CONTACT: Gregory Davison, Aerospace Engineer, FAA, Small Airplane Directorate, ACE-112, Room 301, 901 Locust, Kansas City, Missouri 64106; telephone: 816-329-4130; facsimile: 816-329-4090.

SUPPLEMENTARY INFORMATION:

Discussion

What events have caused this AD? The Luftfahrt-Bundesamt (LBA), which is the airworthiness authority for Germany, recently notified FAA that an unsafe condition may exist on all DG Flugzeugbau GmbH Model DG-500MB sailplanes equipped with a Solo engine and all Glaser-Dirks Flugzeugbau GmbH Model DG-800B sailplanes equipped with a Solo engine. The LBA reports that a damaged propeller was found on a Model DG-800B sailplane.

The foam core inside the propeller separated and caused one blade to be thicker than the other. The propeller became overheated after the engine was retracted. This was possibly due to limited ventilation. The LBA reports three occurrences of this condition.

The propeller on Model DG-500MB sailplanes equipped with a Solo engine is of a similar design to Model DG-800B sailplanes equipped with a Solo engine.

What is the potential impact if FAA took no action? If not detected and corrected, damage to the propeller, specifically foam core separation, could cause the propeller to fail to perform properly. This failure could lead to reduced or loss of control of the sailplane.

Has FAA taken any action to this point? We issued a proposal to amend part 39 of the Federal Aviation Regulations (14 CFR part 39) to include an AD that would apply to all DG Flugzeugbau GmbH Model DG-500MB sailplanes equipped with a Solo engine and Glaser-Dirks Flugzeugbau GmbH Model DG-800B sailplanes equipped with a Solo engine. This proposal was published in the Federal Register as a notice of proposed rulemaking (NPRM) on February 14, 2005 (70 FR 7443). The NPRM proposed to require you to inspect the propeller for damage, specifically foam core separation, and replace any damaged propeller.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many sailplanes does this AD impact? We estimate that this AD affects 31 sailplanes in the U.S. registry.

What is the cost impact of this AD on owners/operators of the affected sailplanes? We estimate the following costs to accomplish the inspection:

Labor cost | Parts cost | Total cost per sailplane | Total cost on U.S. operators
1 work hour × $65 per hour = $65 | Not applicable | $65 | $65 × 31 = $2,015.

We estimate the following costs to do any necessary replacements that will be required based on the results of the inspection. We have no way of determining the number of sailplanes that may need this replacement:

Labor cost | Parts cost | Total cost per sailplane
1 work hour × $65 per hour = $65 | $4,000 | $4,065.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2004-19959; Directorate Identifier 2004-CE-46-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-10-23 DG Flugzeugbau GmbH and Glaser-Dirks Flugzeugbau GmbH: Amendment 39-14101; Docket No. FAA-2004-19959; Directorate Identifier 2004-CE-46-AD.

When Does This AD Become Effective?

(a) This AD becomes effective on June 30, 2005.

What Other ADs Are Affected By This Action?

(b) None.

What Sailplanes Are Affected By This AD?

(c) This AD affects all Model DG-500MB and DG-800B sailplanes that are:

(1) Certificated in any category; and

(2) Equipped with a Solo engine.

What Is the Unsafe Condition Presented in This AD?

(d) This AD is the result of mandatory continuing airworthiness information (MCAI) issued by the airworthiness authority for Germany. The actions specified in this AD are intended to detect and correct damage to the propeller, which could result in failure of the propeller to perform properly. This failure could lead to reduced or loss of control of the sailplane.

What Must I Do To Address This Problem?

(e) To address this problem, you must do the following:

Actions | Compliance | Procedures
(1) Inspect the propeller for any signs of damage | Within 25 hours time-in-service (TIS) after June 30, 2005 (the effective date of this AD) | Follow DG Flugzeugbau Technical Note No. 843/19 (LBA approved on April 7, 2004; EASA approved on April 26, 2004); and DG Flugzeugbau Technical Note 873/29 (LBA approved on April 7, 2004; EASA approved April 26, 2004), as applicable.
(2) If any damage is found during the inspection required in paragraph (e)(1) of this AD, replace the propeller | Before further flight after the inspection required in paragraph (e)(1) approved on this AD | Follow DG Flugzeugbau Technical Note No. 843/19 (LBA approved on April 7, 2004; EASA approved on April 26, 2004); and DG Flugzeugbau Technical Note 873/29 (LBA approved on April 7, 2004; EASA approved April 26, 2004), as applicable.
(3) Insert the following language in the Limitations Section of the AFM: “Caution: With high temperatures (temperature on ground above 25 °C/77 °F) there is the risk of overheating the propeller after engine retraction. To avoid damage, extend the engine again via the manual switch (approx. 1 second) to open the engine doors. Retract again after 5 minutes.” | Within 25 hours TIS after June 30, 2005 (the effective date of this AD) | The owner/operator holding at least a private pilot certificate as authorized by section 43.7 of the Federal Aviation Regulations (14 CFR 43.7) may do the flight manual changes requirement of this AD. Make an entry in the aircraft records showing compliance with this portion of the AD following section 43.9 of the Federal Aviation Regulations (14 CFR 43.9).

Note: For Model DG-500MB sailplanes, FAA recommends you install a polyurethane shock absorber at the retaining cable mounting in the fuselage. This is specified in DG Flugzeugbau Technical Note No. 843/19 (LBA approved on April 7, 2004; EASA approved on April 26, 2004). The approximate cost to install the shock absorber is $520 (4 work hours × $65 per hour for labor = $260 + $260 for parts).

Starting with serial number 5E243B20 and on, this shock absorber is being installed at production.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Gregory Davison, Aerospace Engineer, FAA, Small Airplane Directorate, ACE-112, Room 301, 901 Locust, Kansas City, Missouri 64106; telephone: 816-329-4130; facsimile: 816-329-4090.

Is There Other Information That Relates to This Subject?

(g) German AD Number D-2004-195 and AD Number D-2004-196, both dated April 23, 2004, also address the subject of this AD.

Does This AD Incorporate Any Material by Reference?

(h) You must do the actions required by this AD following the DG Flugzeugbau Technical Note No. 843/19 (LBA approved on April 7, 2004; EASA approved on April 26, 2004); and DG Flugzeugbau Technical Note 873/29 (LBA approved on April 7, 2004; EASA approved April 26, 2004). The Director of the Federal Register approved the incorporation by reference of these service bulletins in accordance with 5 U.S.C. 552(a) and 1 CFR part 51. To get a copy of this service information, contact DG Flugzeugbau, Postbox 41 20, 76625 Bruchsal, Germany; telephone, 49 7257 890; fax, 49 7257 8922. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-19959; Directorate Identifier 2004-CE-46-AD.

Issued in Kansas City, Missouri, on May 13, 2005.
David R. Showers,
Acting Manager, Small Airplane Directorate, Aircraft Certification Service.

[FR Doc. 05-9975 Filed 5-20-05; 8:45 am]

BILLING CODE 4910-13-P